DEPARTMENT OF HEALTH AND HUMAN SERVICES

National Institutes of Health

Proposed Collection; Comment Request; Application Forms for Research Development and Training Grants

SUMMARY: In compliance with the requirement of Section 3506(c)(2)(A) of the Paperwork Reduction Act of 1995, for opportunity for public comment on proposed data collections via application forms, the National Institute on Drug Abuse (NIDA), the National Institutes of Health (NIH) will publish periodic summaries of proposed collections to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To request more information on the proposed programs submit requests to: Jack Stein, Ph.D., Director, Office of Science Policy and Communications, National Institute on Drug Abuse, 6001 Executive Blvd., Room 5185, Rockville, MD 20852, or call non-toll free number 301-443-6071 or email your request, including your address to: jack.stein@nih.gov.

Comments Due Date: Comments regarding these programs are best assured of having their full effect if received within 60 days of the date of this publication.

Proposed Collection: Application Forms for Research Development and Training Grants, 0925-New, National Institute on Drug Abuse (NIDA), National Institutes of Health (NIH).

Need and Use of Information Collection: These programs offer grants and traineeships necessary for growing the biomedical researcher workforce, and the diversity in this workforce. The application forms will collect information of applicants for selecting those that would benefit most effectively from the programs. NIDA is requesting generic approval from OMB for application forms to be used by these programs that will recruit pre-college through post-doctoral underrepresented individuals and individuals of special populations into the research programs of the Institute for research training and research development, for forging mentor/mentee relationships and networking between newly funded underrepresented researchers and experienced investigators funded by NIDA; and for a fellowship program to train new researchers, and support experienced researchers of other nations, in research to advance the science of HIV and drug use while fostering multinational research in this disease area. The application forms will be web-based.

OMB approval is requested for 3 years. There are no costs to respondents other than their time. The total annualized burden hours are 426.

Estimated Annualized Burden Hours
Form name | Type of respondent | Number of respondents | Number of responses per respondent | Average burden per response | Total annual burden hour
Summer Internship | Students | 100 | 1 | 1 | 100
| Undergraduates | 100 | 1 | 1 | 100
| Scientists | 100 | 1 | 1 | 100
Research Development Seminar Series | Scientists | 75 | 1 | 1 | 75
HIV—Drug Use Research Fellowship: | Scientists | 45 | 1 | 1 | 45
| Scientist Mentors | 25 | 1 | 15/60 | 6

Dated: October 2, 2014.
Genevieve deAlmeida,
Project Clearance Liaison, National Institute on Drug Abuse.

[FR Doc. 2014-24008 Filed 10-7-14; 8:45 am]

BILLING CODE 4140-01-P